DEPARTMENT OF VETERANS AFFAIRS

38 CFR Part 38

RIN 2900-AS13

Veterans Legacy Grants Program Improvements

AGENCY: Department of Veterans Affairs.

ACTION: Final rule.

SUMMARY: The Department of Veterans Affairs (VA) amends its Veterans Legacy Grants Program (VLGP) regulations to align them with regulatory updates to the uniform administrative requirements and other requirements for Federal awards and makes additional revisions to improve the process for administration of the grant program. This rulemaking implements housekeeping amendments to key terms, legal citations, and definitions and extends timelines for grant recipient reporting requirements.

DATES: This rule is effective January 30, 2025.

FOR FURTHER INFORMATION CONTACT: John Williams, Senior Grants Management Specialist, Veterans Legacy Grants Program, National Cemetery Administration, Department of Veterans Affairs, 810 Vermont Avenue NW, Washington, DC 20420. Telephone: (314) 348-4073 (this is not a toll-free number).

SUPPLEMENTARY INFORMATION: On August 12, 2024, VA published a proposed rule in the Federal Register (89 FR 65572) that would align VLGP regulations with regulatory updates to the uniform requirements for Federal awards in 2 CFR part 200 and make additional revisions to improve the process for administration of the grant program. The public comment period ended on October 11, 2024, and VA received 1 comment in response to the proposed rule.

The commenter expressed support for the VLGP and noted that the updates to the regulations would ensure clarity and compliance, provide grant recipients with additional flexibility to meet reporting requirements, and improve the program's overall effectiveness. VA appreciates the commenter's support and feedback. VA makes no changes to the rulemaking based on this comment.

Executive Orders 12866, 13563 and 14094

Executive Order 12866 (Regulatory Planning and Review) directs agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 14094 (Executive Order on Modernizing Regulatory Review) supplements and reaffirms the principles, structures, and definitions governing contemporary regulatory review established in Executive Order 12866 of September 30, 1993 (Regulatory Planning and Review), and Executive Order 13563 of January 18, 2011 (Improving Regulation and Regulatory Review). The Office of Information and Regulatory Affairs has determined that this rulemaking is not a significant regulatory action under Executive Order 12866, as amended by Executive Order 14094. The Regulatory Impact Analysis associated with this rulemaking can be found as a supporting document at www.regulations.gov.

Regulatory Flexibility Act

The Secretary hereby certifies that this final rule will not have a significant economic impact on a substantial number of small entities as they are defined in the Regulatory Flexibility Act (5 U.S.C. 601-612). Amendments in the final rule will likely not be determinative of whether small entities receive or do not receive a grant because they will have limited impact on small entities complying with grant application and reporting requirements. In addition to some technical revisions to the VLGP regulations, this rule will merely align those regulations to updates to the uniform administrative requirements and other requirements for Federal awards (2 CFR part 200). Therefore, pursuant to 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and Tribal governments, in the aggregate, or by the private sector, of $100 million or more (adjusted annually for inflation) in any one year. This final rule will have no such effect on State, local, and Tribal governments, or on the private sector.

Paperwork Reduction Act

Although this final rule contains collection of information under the provisions of the Paperwork Reduction Act of 1995 (44 U.S.C. 3501-3521), there are no provisions associated with this rulemaking constituting any new collection of information or any revisions to the existing collection of information. The collections of information for 38 CFR 38.730 are currently approved by the Office of Management and Budget (OMB) and have been assigned OMB control numbers 4040-0004, 4040-0006, 4040-0007, and 4040-0013.

Assistance Listing

The Assistance Listing number and title for the program affected by this document are 64.204, Veterans Legacy Grants Program.

Congressional Review Act

Pursuant to Subtitle E of the Small Business Regulatory Enforcement Fairness Act of 1996 (known as the Congressional Review Act) (5 U.S.C. 801 et seq.), the Office of Information and Regulatory Affairs designated this rule as not satisfying the criteria under 5 U.S.C. 804(2).

Signing Authority

Denis McDonough, Secretary of Veterans Affairs, signed and approved this document on December 20, 2024, and authorized the undersigned to sign and submit the document to the Office of the Federal Register for publication electronically as an official document of the Department of Veterans Affairs.

List of Subjects in 38 CFR Part 38

Administrative practice and procedure, Cemeteries, Claims, Crime, Grants programs—veterans, Veterans.

Michael P. Shores,
Director, Office of Regulation Policy & Management, Office of General Counsel, Department of Veterans Affairs.

For the reasons stated in the preamble, the Department of Veterans Affairs amends 38 CFR part 38 as set forth below:

PART 38—NATIONAL CEMETERIES OF THE DEPARTMENT OF VETERANS AFFAIRS

1. The authority citation for part 38 continues to read as follows:

Authority: 38 U.S.C. 107, 501, 512, 531, 2306, 2400, 2402, 2403, 2404, 2407, 2408, 2411, 7105.

2. Amend § 38.715 by:

a., Removing “Notice of Funding Availability (NOFA)” and adding in its place “Notice of Funding Opportunity (NOFO)” in the introductory text;

b. Removing “NOFA” and adding in each place “NOFO” in paragraphs (a) and (c)(3) and the paragraph (k) heading; and

c. Revising paragraphs (j) and (k) and the authority citation at the end of the section.

The revisions read as follows:

§ 38.715 Definitions.

* * * * *

(j) Recipient means an eligible recipient (or entity) that is awarded a VLGP grant under this part. It does not include a subrecipient or individual that is a beneficiary of the award.

(k) Notice of Funding Opportunity (NOFO) means a formal announcement of the availability of a Federal funding opportunity published in the OMB-designated government-wide website Grants.gov (http://www.grants.gov) in accordance with § 38.725 and 2 CFR 200.1 and 200.204.

(Authority: 38 U.S.C. 501(d), 2400 note, 2 CFR 200.1 and 200.204))

§ 38.720 [Amended]

3. Amend § 38.720 by:

b. Removing “NOFA” and adding in its place “NOFO” in paragraph (b);

b. Removing “grantee” and adding in its place “recipient” in paragraphs (b), (c), and (e);

c. Removing “grantee's” and adding in its place “recipient's” in paragraph (c); and

d. Removing “NOFA” and adding in its place “NOFO” in paragraph (e).

4. Amend § 38.725 by:

a. Revising the section heading and introductory text; and

b. Removing “2 CFR 200.203” and adding in its place “2 CFR 200.204” in the authority citation at the end of the section.

The revisions read as follows:

§ 38.725 Notice of Funding Opportunity (NOFO).

When funds are available for VLGP grants, VA will publish a NOFO at Grants.gov (http://www.grants.gov). The NOFO will identify:

* * * * *

5. Amend § 38.730 by:

a. Removing “NOFA” each place it appears and adding in each place “NOFO”;

b. Removing “2 CFR 200.203” and adding in its place “2 CFR 200.208” in the authority citation at the end of the section; and

c. Adding a parenthetical OMB reference to the end of the section.

The addition reads as follows:

§ 38.730 Applications.

* * * * *

(The Office of Management and Budget has approved the information collection provisions in this section under control numbers 4040-0004, 4040-0006, 4040-0007, and 4040-0013).

6. Amend § 38.735 by:

a. Revising paragraphs (a) and (b); and

b. Removing “2 CFR 200.203” and adding in its place “2 CFR 200.206” in the authority citation at the end of the section.

The revisions read as follows:

§ 38.735 Additional factors for deciding applications.

(a) Applicant's history of performance. VA may consider the applicant's record in managing Federal awards, if a prior recipient of a Federal award, including timeliness of compliance with applicable reporting requirements and conformance to the terms and conditions of any previous Federal award.

(b) Applicant's financial stability. Applicants must meet and have maintained standards of financial stability for participation in Federal grant programs.

* * * * *

§ 38.740 [Amended]

7. Amend § 38.740 by:

a. Removing “NOFA” each place it appears and adding in each place “NOFO”; and

b. Removing “2 CFR 200.203” and adding in its place “2 CFR 200.205” in the authority citation at the end of the section.

§ 38.745 [Amended]

8. Amend § 38.745 in the authority citation by removing “2 CFR 200.203” and adding in its place “2 CFR 200.211”.

§ 38.750 [Amended]

9. Amend § 38.750 in the authority citation by removing “2 CFR 200.203” and adding in its place “2 CFR 200.204”.

§ 38.755 [Amended]

10. Amend § 38.755 by:

a. Removing “grantee” and adding in its place “recipient” in the first sentence of the introductory text; and

b. Removing “2 CFR 200.203” and adding in its place “2 CFR 200.211” in the authority citation at the end of the section.

11. Amend § 38.760 by:

a. Revising paragraph (a);

b. Removing “NOFA” and adding in its place “NOFO” in paragraph (b); and

c. Removing “2 CFR 200.203” and adding in its place “2 CFR 200.305” in the authority citation at the end of the section.

The revision reads as follows:

§ 38.760 Payments under the grant.

(a) Manner of payment. Recipients are to be paid in accordance with 2 CFR 200.305.

* * * * *

12. Amend § 38.765 by:

a. Revising the section heading and paragraph (a); and

b. Removing “2 CFR 200.203” and adding in its place “2 CFR 200.344” in the authority citation at the end of the section.

The revisions read as follows:

§ 38.765 Recipient reporting requirements.

(a) Final report. The recipient must submit to VA, no later than 120 calendar days after the end date of the period of performance, all financial, performance, and other reports as required by the terms and conditions of the Federal award.

* * * * *

13. Amend § 38.770 by:

a. Removing “grantee” each place it appears and adding in each place “recipient”; and

b. Revising the authority citation at the end of the section.

The revision reads as follows:

§ 38.770 Recovery of funds by VA.

* * * * *

(Authority: 38 U.S.C. 501(d), 2400 note, 2 CFR 200.339 and 200.410)

§ 38.775 [Amended]

14. Amend § 38.775 by:

a. Removing “grantee” each place it appears and adding in each place “recipient”; and

b. Removing “2 CFR 200.203” and adding in its place “2 CFR 200.329” in the authority citation at the end of the section.

§ 38.780 [Amended]

15. Amend § 38.780 by:

a. Removing “grantees” and “Grantees” and adding in their places “recipients” and “Recipients”, respectively, in paragraph (b); and

b. Removing “2 CFR 200.400-200.475” and adding in each place “2 CFR 200.400-200.476”.

16. Revise § 38.785 to read as follows:

§ 38.785 Record retention and access.

Recipients must ensure that records are maintained and accessible in accordance with 2 CFR 200.334-200.338. Recipients must produce such records at VA's request.

(Authority: 38 U.S.C. 501(d), 2400 note, and 2 CFR 200.334-200.338)

[FR Doc. 2024-31230 Filed 12-30-24; 8:45 am]

BILLING CODE 8320-01-P